INTERNATIONAL TRADE COMMISSION

Notice of Revised Deadlines for Section 337 Complaints Pending Before the U.S. International Trade Commission When Normal Operations Were Suspended Due to a Lapse in Funding

AGENCY: U.S. International Trade Commission.

ACTION: Notice.

SUMMARY: Notice is hereby given that four complaints were pending institution when the U.S. International Trade Commission suspended normal operations due to a lapse in funding on December 22, 2018. The Commission has determined to extend by 35 days the dates by which it decides whether to institute investigations based on the four complaints entitled Certain Pocket Lighters, DN 3355, and Certain Pickup Truck Folding Bed Cover Systems and Components Thereof, DN 3356, the dates for which are February 11, 2019, and February 19, 2019, respectively. The Commission has determined to extend until February 28, 2019, its decisions whether to institute investigations based on the complaints entitled Certain Dental and Orthodontic Scanners and Software, DN 3357, and Certain Integrated Circuits and Products Containing the Same, DN 3358.

FOR FURTHER INFORMATION CONTACT: Lisa R. Barton, Secretary to the Commission, U.S. International Trade Commission, 500 E Street SW, Washington, DC 20436, telephone (202) 205-2000. The public version of the complaints can be accessed on the Commission's Electronic Document Information System (EDIS) at https://edis.usitc.gov, and will be available for inspection during official business hours (8:45 a.m. to 5:15 p.m.) in the Office of the Secretary, U.S. International Trade Commission, 500 E Street SW, Washington, DC 20436, telephone (202) 205-2000.

General information concerning the Commission may also be obtained by accessing its internet server at United States International Trade Commission (USITC) at https://www.usitc.gov . The public record for these investigations may be viewed on the Commission's Electronic Document Information System (EDIS) at https://edis.usitc.gov. Hearing-impaired persons are advised that information on this matter can be obtained by contacting the Commission's TDD terminal on (202) 205-1810.

SUPPLEMENTARY INFORMATION: The Commission has received a complaint and a submission pursuant to § 210.8(b) of the Commission's Rules of Practice and Procedure filed on behalf of BIC Corporation, on December 6, 2018. The complaint, DN 3355, alleges violations of section 337 of the Tariff Act of 1930 (19 U.S.C. 1337) in the importation into the United States, the sale for importation, and the sale within the United States after importation of certain pocket lighters. The complaint names as proposed respondents: Arrow Lighter, Inc. d/b/a MK Lighter, Inc. of City of Industry, CA; Benxi Fenghe Lighter Co., Ltd. of China; Excel Wholesale Distributors Inc. of College Point, NY; Milan Import Export Company, LLC of San Diego, CA; Wellpine Company Limited of Hong Kong; and Zhuoye Lighter Manufacturing Co, Ltd. of China. The complainant requests that the Commission issue a general exclusion order or alternatively a limited exclusion order, cease and desist orders, and impose a bond during the 60-day review period pursuant to 19 U.S.C. 1337(j).

The Commission has received a complaint, a motion for temporary relief, and a submission pursuant to § 210.8(b) of the Commission's Rules of Practice and Procedure filed on behalf of Extang Corporation and Laurmark Enterprises, Inc. d/b/a BAK Industries on December 7, 2018. The complaint, DN 3356, alleges violations of section 337 of the Tariff Act of 1930 (19 U.S.C. 1337) in the importation into the United States, the sale for importation, and the sale within the United States after importation of certain pickup truck folding bed cover systems and components thereof. The complaint names as proposed respondents: Stehlen Automotive of Walnut, CA; SyneticUSA of Pico Rivera, CA; Topline Autoparts, Inc. of Hacienda Heights, CA; Velocity Concepts Inc. of Hacienda Heights, CA; JL Concepts Inc. of Walnut, CA; DT Trading Inc. of Alhambra, CA; Wenzhou Kouvi Hardware Products Co., Ltd. of China; Syppo Marketing, Inc. of City of Industry, CA; Apex Auto Parts Mfg. Inc. of City of Industry, CA; Ningbo Huadian Cross Country Automobile Accessories Co., Ltd. of China; and Sunwood Industries Co., Ltd. of China. The complainants request that the Commission grant temporary relief in the form of temporary cease and desist orders during the period of investigation. Complainants also request issuance of a general exclusion order or, in the alternative, a limited exclusion order, and cease and desist orders.

The Commission has received a complaint and a submission pursuant to § 210.8(b) of the Commission's Rules of Practice and Procedure filed on behalf of Align Technology, Inc., on December 10, 2018. The complaint, DN 3357, alleges violations of section 337 of the Tariff Act of 1930 (19 U.S.C. 1337) in the importation into the United States, the sale for importation, and the sale within the United States after importation of certain dental and orthodontic scanners and software. The complaint names as proposed respondents: 3Shape A/S of Denmark; 3Shape, Inc. of Warren, NJ; and 3Shape Trios A/S of Denmark. The complainant requests that the Commission issue a limited exclusion order, cease and desist orders, and impose a bond during the 60-day review period pursuant to 19 U.S.C. 1337(j). On December 14, 2018, a notice was published in the Federal Register soliciting comments on any public interest issues raised by the complaint or § 210.8(b) filing. The Commission is issuing a notice providing updated information now that operations have resumed following the lapse in funding, including dates by which these comments should be filed.

The Commission has received a complaint and a submission pursuant to § 210.8(b) of the Commission's Rules of Practice and Procedure filed on behalf of Tela Innovations, Inc. on December 19, 2018. The complaint, DN 3358, alleges violations of section 337 of the Tariff Act of 1930 (19 U.S.C. 1337) in the importation into the United States, the sale for importation, and the sale within the United States after importation of certain integrated circuits and products containing the same. The complaint names as proposed respondents: Acer, Inc. of Taiwan; Acer America Corporation of San Jose, CA; AsusTek Computer Inc. of Taiwan; Asus Computer International of Fremont, CA; Intel Corporation of Santa Clara, CA; Lenovo Group Ltd. of China; Lenovo (United States) Inc. of Morrisville, NC; Micro-Star International Co., Ltd. of Taiwan; and MSI Computer Corp. of City of Industry, CA. The complainant requests that the Commission issue a limited exclusion order, cease and desist orders, and impose a bond during the 60-day review period pursuant to 19 U.S.C. 1337(j). On December 27, 2018, a notice was published in the Federal Register soliciting comments on any public interest issues raised by the complaint or § 210.8(b) filing. The Commission is issuing a notice providing updated information now that operations have resumed following the lapse in funding, including dates by which these comments should be filed.

This action is taken under the authority of section 337 of the Tariff Act of 1930, as amended (19 U.S.C. 1337), and of §§ 201.10 and 210.10 of the Commission's Rules of Practice and Procedure (19 CFR 201.10, 19 CFR 210.10).

By order of the Commission.
Issued: February 5, 2019.
Lisa Barton,
Secretary to the Commission.

[FR Doc. 2019-01729 Filed 2-8-19; 8:45 am]

BILLING CODE 7020-02-P